DEPARTMENT OF ENERGY

Agency Information Collection Extension

AGENCY: Office of Science, Department of Energy.

ACTION: Notice of request for comments.

SUMMARY: The Department of Energy (DOE) invites public comment on a proposed collection of certain information that DOE is developing for submission to the Office of Management and Budget (OMB) pursuant to the Paperwork Reduction Act of 1995. Under the Paperwork Reduction Act (PRA) of 1995, Federal agencies are required to publish notice in the Federal Register concerning each proposed collection of information, including each proposed new collection, and allow 60 days for public comment in response to the notice.

DATES: Comments regarding this proposed information collection must be received on or before August 26, 2024. If you anticipate any difficulty in submitting comments within that period, contact the person listed in the FOR FURTHER INFORMATION CONTACT section as soon as possible.

ADDRESSES: Written comments may be sent to the Office of Workforce Development for Teachers and Scientists (WDTS), U.S. Department of Energy, 1000 Independence Avenue SW, Washington, DC 20585, or by email at sc.wdts@science.doe.gov.

FOR FURTHER INFORMATION CONTACT: Ping Ge, Office of Workforce Development for Teachers and Scientists (WDTS), U.S. Department of Energy, 1000 Independence Avenue SW, Washington, DC 20585; (202) 287-6490; sc.wdts@science.doe.gov.

SUPPLEMENTARY INFORMATION: Under the PRA of 1995 (Pub. L. 104-13; 44 U.S.C. 3501-3521), Federal agencies must obtain approval from OMB for each collection of information they conduct or sponsor. This request for comment is being made pursuant to section 3506(c)(2)(A) of the PRA. With respect to the following collection of information, DOE invites comments on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-NEW.

(2) Information Collection Request Title: Department of Energy (DOE) Office of Science (SC) Reaching a New Energy Sciences Workforce (RENEW) Longer-Term Follow-up Study.

(3) Type of Request: New.

(4) Purpose: The SC RENEW Longer-Term Follow-up Study will examine the longer-term impact of RENEW investment on participants' educational and career outcomes. This will allow for portfolio development based on longer-term program outcomes. Respondents will be RENEW participants.

(5) Annual Estimated Number of Respondents: 460.

(6) Annual Estimated Number of Total Responses: 184.

(7) Annual Estimated Number of Burden Hours: 92.

(8) Annual Estimated Reporting and Recordkeeping Cost Burden: $2760.

Statutory Authority

Section 646 of Public Law 95-91, U.S. Department of Energy Organization Act; section 901, et seq. of Public Law 109-58, Energy Policy Act of 2005.

Signing Authority

This document of the Department of Energy was signed on June 21, 2024, by Harriet Kung, Acting Director, Office of Science, pursuant to delegated authority from the Secretary of Energy. The document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 21, 2024.
Treena V. Garrett,
Federal Register Liaison Officer, U.S. Department of Energy.

[FR Doc. 2024-13996 Filed 6-25-24; 8:45 am]

BILLING CODE 6450-01-P